DEPARTMENT OF ENERGY

Federal Energy Regulatory Commission

Combined Notice of Filings #1

Take notice that the Commission received the following electric corporate filings:

Docket Numbers: EC14-101-000.

Applicants: NRG Yield, Inc., NRG Yield Operating LLC, Alta Wind I, LLC, Alta Wind II, LLC, Alta Wind III, LLC, Alta Wind IV, LLC, Alta Wind V, LLC, Alta Wind X, LLC, Alta Wind XI, LLC.

Description: Amendment to June 10, 2014 Joint Application for Approval under Section 203 of the Federal Power Act and Request for Shortened Comment Period of NRG Yield, Inc., et. al.

Filed Date: 6/18/14.

Accession Number: 20140618-5093.

Comments Due: 5 p.m. ET 7/9/14.

Docket Numbers: EC14-105-000.

Applicants: Safeway Inc.

Description: Application for Authorization under Section 203 of the Federal Power Act of Safeway Inc.

Filed Date: 6/18/14.

Accession Number: 20140618-5150.

Comments Due: 5 p.m. ET 7/9/14.

Take notice that the Commission received the following electric rate filings:

Docket Numbers: ER14-1955-001.

Applicants: RTO Energy Trading, LLC.

Description: Amended FERC Electric Tariff No. 1 to be effective 6/27/2014.

Filed Date: 6/16/14.

Accession Number: 20140616-5071.

Comments Due: 5 p.m. ET 6/26/14.

Docket Numbers: ER14-1955-001.

Applicants: RTO Energy Trading, LLC.

Description: Supplement to May 13, 2014 and June 16, 2014 RTO Energy Trading, LLC tariff filing.

Filed Date: 6/18/14.

Accession Number: 20140618-5085.

Comments Due: 5 p.m. ET 6/26/14.

Docket Numbers: ER14-2217-000.

Applicants: Southwest Power Pool, Inc.

Description: 2893 Steele Flats GIA; Cancellation of 2490R1 & 2642 to be effective 5/23/2014.

Filed Date: 6/18/14.

Accession Number: 20140618-5078.

Comments Due: 5 p.m. ET 7/9/14.

Docket Numbers: ER14-2218-000.

Applicants: California Independent System Operator Corporation.

Description: 2014-06-18_Amendment_PNM_DTBAOA to be effective 6/19/2014.

Filed Date: 6/18/14.

Accession Number: 20140618-5104.

Comments Due: 5 p.m. ET 7/9/14.

Docket Numbers: ER14-2219-000.

Applicants: Southwest Power Pool, Inc.

Description: Integrated Marketplace Filing—Clean-Up—Phase II to be effective 3/1/2014.

Filed Date: 6/18/14.

Accession Number: 20140618-5121.

Comments Due: 5 p.m. ET 7/9/14.

Docket Numbers: ER14-2220-000.

Applicants: PJM Interconnection, L.L.C.

Description: Queue Nos. N15, P10/Y2-043; 2nd Rev. SA Nos. 2199, et al and SA No. 3873 to be effective 5/19/2014.

Filed Date: 6/19/14.

Accession Number: 20140619-5000.

Comments Due: 5 p.m. ET 7/10/14.

Docket Numbers: ER14-2221-000.

Applicants: PJM Interconnection, L.L.C.

Description: Original Service Agreement No. 3859; Queue No. Z1-082 to be effective 5/19/2014.

Filed Date: 6/19/14.

Accession Number: 20140619-5001.

Comments Due: 5 p.m. ET 7/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2014.
Kimberly D. Bose,
Secretary.

[FR Doc. 2014-15089 Filed 6-26-14; 8:45 am]

BILLING CODE 6717-01-P